DEPARTMENT OF ENERGY

Federal Energy Regulatory Commission

[Project No. 2069-003 Arizona]

Arizona Public Service Company; Notice of Site Visit and Technical Conference

December 8, 2000.

Take notice that on Tuesday, January 9, 2001, FERC staff will conduct a site visit to the Childs Irving Project No. 2069. All interested individuals, organizations, and agencies are invited to attend. All participants should meet at 9:00 a.m. at the parking lot of the Best Western Cliff Castle Lodge at 333 West Middle Verde Road in Camp Verde, Arizona. Arizona Public Service Company (APS), the applicant for the project, will provide transportation to the project site to minimize the number of vehicles. APS will also provide lunch for all participants. Anyone who wishes to attend the site visit should contact Mr. Larry Johnson of APS at 480-350-3131 by 4:00 p.m. on Monday, January 8, 2001.

On September 15, 2000, APS filed with the Commission an Offer of Settlement and Settlement Agreement. Commission staff will hold a technical conference of APS, parties to the proposed Settlement Agreement, and other interested parties in the relicensing proceeding for the project. The conference will be held on January 10, 2001, from 10:00 a.m. to 5:00 p.m. at the Community Room of the Phoenix Museum of History, 105 North 5th Street, Phoenix, Arizona.

The purposes of the conference are to learn more about the Settlement Agreement, and discuss related procedural steps. All interested individuals, organizations, and agencies are invited to attend the conference.

For further information, please contact Dianne Rodman at (202) 219-2830.

David P. Boergers,
Secretary.

[FR Doc. 00-31854 Filed 12-13-00; 8:45 am]

BILLING CODE 6717-01-M